FARM CREDIT ADMINISTRATION

12 CFR Part 600

RIN 3052-AD05

Organization and Functions; Field Office Locations

AGENCY: Farm Credit Administration.

ACTION: Notice of effective date.

SUMMARY: The Farm Credit Administration (FCA, we, or our) issued a final rule amending our regulation in order to change the addresses for two field offices as a result of recent office relocations. In accordance with the law, the effective date of the rule is 30 days from the date of publication in the Federal Register during which either or both Houses of Congress are in session.

DATES: Under the authority of 12 U.S.C. 2252, the regulation amending 12 CFR part 600 published on March 25, 2015 (80 FR 15680) is effective May 22, 2015.

FOR FURTHER INFORMATION CONTACT:

Michael T. Wilson, Policy Analyst, Office of Regulatory Policy, Farm Credit Administration, McLean, VA 22102-5090, (703) 883-4124, TTY (703) 883-4056; or

Jane Virga, Senior Counsel, Office of General Counsel, Farm Credit Administration, McLean, Virginia 22102-5090, (703) 883-4071, TTY (703) 883-4056.

SUPPLEMENTARY INFORMATION: The Farm Credit Administration issued a final rule to reflect the change of address for two FCA field office locations. The Freedom of Information Act, 5 U.S.C. 552, requires, in part, that each Federal agency publish in the Federal Register for the guidance of the public a description and the location of its central and field organizations. As two of FCA's field offices recently changed locations, the final rule amended our regulation to include the new addresses, in accordance with the Freedom of Information Act. In accordance with 12 U.S.C. 2252, the effective date of the interim rule is 30 days from the date of publication in the Federal Register during which either or both Houses of Congress are in session. Based on the records of the sessions of Congress, the effective date of the regulations is May 22, 2015.

(12 U.S.C. 2252(a)(9) and (10))

Dated: June 1, 2015.
Dale L. Aultman,
Secretary, Farm Credit Administration Board.

[FR Doc. 2015-13880 Filed 6-5-15; 8:45 am]

BILLING CODE 6705-01-P